DEPARTMENT OF COMMERCE

International Trade Administration

[A-570-967]

Aluminum Extrusions From the People's Republic of China: Final Results of Antidumping Duty Administrative Review and Rescission, in Part, 2010/12

AGENCY: Enforcement and Compliance, formerly Import Administration, International Trade Administration, Department of Commerce.

SUMMARY: The Department of Commerce (“the Department”) is conducting an administrative review of the antidumping duty order on aluminum extrusions from the People's Republic of China (“PRC”). The period of review (“POR”) is November 12, 2010, through April 30, 2012. These final results cover 62 companies for which an administrative review was initiated,¹ and for which this administrative review was not rescinded in the Preliminary Results.² For these final results, the Department examined two mandatory respondents which include three companies for which this review was initiated. The first mandatory respondent is Kromet International, Inc. (“Kromet”) for which the Department finds for these final results did not make sales of subject merchandise at less than normal value. The second mandatory respondent the Department has continued to find is a single entity, collectively Zhongya/Guang Ya Group/Xinya, comprised of Zhaoqing New Zhongya Aluminum Co., Ltd. a.k.a. Guangdong Zhongya Aluminum Company Limited (“Zhongya”); Guangya Aluminum Industrial Co., Ltd. (“Guang Ya”), Foshan Guangcheng Aluminum Co., Ltd. (“Guangcheng”) ³ (collectively “Guang Ya Group”); and Foshan Nanhai Xinya Aluminum & Stainless Steel Products Co., Ltd. (“Xinya”).⁴ The Department finds for these final results that the Zhongya/Guang Ya Group/Xinya entity failed to demonstrate that it was eligible for a separate rate and thus it is part of the PRC-wide entity. Furthermore, the Department finds that ten (including Kromet) of the other companies under review have established their eligibility for a separate rate. The Department finds that the remaining companies under review either failed to establish their eligibility for a separate rate or were not responsive, and, therefore, these companies are part of the PRC-wide entity.

¹ See Initiation of Antidumping and Countervailing Duty Administrative Reviews and Request for Revocation in Part, 77 FR 40565 (July 10, 2012) (“Initiation Notice”). In the Initiation Notice, 67 companies are listed. However, there were entries for Taishan City Kam Kiu Aluminum Extrusion Co., Ltd. and Taishan City Kam Kiu Aluminium Extrusion Co., Ltd. which appear to be the same entity, with the result that the Department considers the Initiation Notice to cover 66 companies.

² See Aluminum Extrusions From the People's Republic of China: Preliminary Results of Antidumping Duty Administrative Review and Rescission, in Part, 2010/12, 78 FR 34986 (June 11, 2013) (“Preliminary Results”) (where the Department rescinded this administrative review for four companies: Alnan Aluminium Co., Ltd., Changshu Changsheng Aluminum Products Co., Ltd., Pingguo Asia Aluminum Co., Ltd., and Taishan City Kam Kiu Aluminum Extrusion Co., Ltd.).

³ No review was initiated for Guangcheng, however, this company did provide a Q&V response.

⁴ No review was initiated for Xinya, however, this company did provide a Q&V response.

DATES: Effective Date: January 2, 2014.

FOR FURTHER INFORMATION CONTACT: Paul Stolz or Demitrios Kalogeropoulos, AD/CVD Operations, Office III, Enforcement and Compliance, U.S. Department of Commerce, 14th Street and Constitution Avenue NW., Washington, DC 20230; telephone: (202) 482-4474 or (202) 482-2623, respectively.

Background

On June 11, 2013, the Department published the Preliminary Results of this administrative review. At that time, we invited interested parties to comment on the Preliminary Results.⁵

⁵ See Preliminary Results at 34988.

On August 26, 2013 we received case briefs from the Aluminum Extrusions Fair Trade Committee (“Petitioner”); ⁶ Zhongya; the Government of China (“GOC”); Shenzhen Hudson Technology Development Co., Ltd. (“Shenzhen Hudson”); Skyline Exhibit Systems (Shanghai) Co., Ltd. (“Skyline”); Newell Rubbermaid Inc. (“Newell”); Zhongshan Gold Mountain Aluminum Factory Ltd. (“ZGM”) and Gold Mountain International Development Limited (“GMID”); Dongguan Golden Tiger Hardware Industrial Co., Ltd. (“Golden Tiger”), Guangdong Whirlpool Electrical Appliances Co. Ltd. (“Guangdong Whirlpool”), Hanyung Alcobis Co., Ltd. (“Hanyung Alcobis”), Henan New Kelong Electrical Appliances Co., Ltd. (“New Kelong”), and Shanghai Tongtai Precise Aluminum Alloy Manufacturing Co., Ltd. (“Tongtai”); Xin Wei Aluminum Company Limited, Guang Dong Xin Wei Aluminum Products Co., Ltd. and Xin Wei Aluminum Co., Ltd. (collectively “Xin Wei”); and Electrolux North America, Inc., Electrolux Home Products, Inc. and Electrolux Major Appliances (collectively “Electrolux”).⁷ On September 12, 2013 we received rebuttal briefs from the Petitioner; Kromet; Zhongya; the GOC; and ZGM and GMID.⁸ On September 26, 2013, the Department extended the deadline for the final results until December 9, 2013.⁹ On October 18, 2013, the Department tolled this deadline by 16 days until December 25, which is a federal holiday.¹⁰ Therefore, the extended deadline is the next business day, which is Thursday, December 26, 2013.¹¹ At Zhongya's request, we held a hearing on November 20, 2013.¹²

⁶ The individual members of the Committee are Aerolite Extrusion Company; Alexandria Extrusion Company; Benada Aluminum of Florida, Inc.; William L. Bonnell Company, Inc.; Frontier Aluminum Corporation; Futural Industries Corporation; Hydro Aluminum North America, Inc.; Kaiser Aluminum Corporation; Profile Extrusion Company; Sapa Extrusions, Inc.; and Western Extrusions Corporation.

⁷ See letters from (1) Petitioner, “Aluminum Extrusions from the People's Republic of China: Case Brief” (“Petitioner's Case Brief”); (2) Zhongya, “Aluminum Extrusions from China” (“Zhongya's Case Brief”), (3) Electrolux, “Aluminum Extrusions from the People's Republic of China: Case Brief” (“Electrolux's Case Brief”), (4) The GOC, “Aluminum Extrusions from China; 1st AD Administrative Review GOC Case Brief” (“GOC's Case Brief”), (5) Xin Wei, “Administrative Review of the Antidumping Duty Order on Aluminum Extrusions from the People's Republic of China: Case Brief” (“Xin Wei's Case Brief”), (6) Golden Tiger et al., “Aluminum Extrusions from The People's Republic of China (First Antidumping Duty Administrative Review): Case Brief of Dongguan Golden Tiger Hardware Industrial Co., Ltd., Guangdong Whirlpool Electrical Appliances Co. Ltd., Hanyung Alcobis Co., Ltd., Henan New Kelong Electrical Appliances Co., Ltd., and Shanghai Tongtai Precise Aluminum Alloy Manufacturing Co., Ltd.” (“Golden Tiger et al.'s Case Brief”), (7) ZGM and GMID, “Administrative Review of the Antidumping Duty Order on Aluminum Extrusions from the People's Republic of China: Case Brief for Consideration Prior to the Final Results” (“ZGM and GMID's Case Brief”), (8) Newell, “Aluminum Extrusions from the People's Republic of China: Case Brief” (“Newell's Case Brief”), (9) Skyline, “Administrative Review of the Antidumping Duty Order on Aluminum Extrusions from the People's Republic of China: Case Brief of Skyline” (“Skyline's Case Brief”), (10) Shenzhen Hudson, “Shenzhen Hudson Administrative Case Brief in the First Administrative Review of the Antidumping Duty Order on Aluminum Extrusions from the People's Republic of China” (“Shenzhen Hudson's Case Brief”), all dated August 26, 2013. IDEX Health & Science LLC and BAND-IT-IDEX, Inc. submitted its case brief on August 2, 2013, “Aluminum Extrusions from China: IDEX Antidumping Case Brief,” (“IDEX Case Brief”). Jiuyuan and UQM Technology Inc. submitted their case brief on July 29, 2013, “Administrative Review of the Antidumping Duty Order on Aluminum Extrusions from the People's Republic of China: Case Brief of Shenzhen Jiuyuan Co., Ltd. and UQM Technology, Inc.” (“Jiuyuan and UQM Case Brief”).

⁸ See letters from (1) Petitioner, “Aluminum Extrusions from the People's Republic of China: Rebuttal Brief,” (“Petitioner's Rebuttal Brief”); (2) Kromet, “Aluminum Extrusions from the People's Republic of China (First Antidumping Duty Administrative Review): Rebuttal Brief of Respondent Kromet International Inc.,” (“Kromet's Rebuttal Brief”); (3) Zhongya, “Aluminum Extrusions from China—Zhongya Rebuttal Brief,” (“Zhongya's Rebuttal Brief”); (4) the GOC, “Aluminum Extrusions from China; 1st AD Administrative Review GOC Rebuttal Brief,” (“The GOC's Rebuttal Brief”); and (5) ZGM and GMID, “Administrative Review of the Antidumping Duty Order on Aluminum Extrusions from the People's Republic of China: Rebuttal Brief for Consideration Prior to the Final Results,” (“ZGM and GMID's Rebuttal Brief”), all dated September 12, 2013.

⁹ See “Aluminum Extrusions from the People's Republic of China: Extension of Deadline for Final Results of Antidumping Duty Administrative Review,” dated September 26, 2013.

¹⁰ See the memorandum for the record “Deadlines Affected by the Shutdown of the Federal Government,” dated October 18, 2013.

¹¹ See Notice of Clarification: Application of “Next Business Day” Rule for Administrative Determination Deadlines Pursuant to the Tariff Act of 1930, As Amended, 70 FR 24533 (May 10, 2008).

¹² See hearing transcript, “In the Matter of the Antidumping Duty Order on Aluminum Extrusions from the PRC (A-570-967) (November 12, 2010 through April 30, 2012),” filed December 2, 2013; see also “Aluminum Extrusions from China: Request for Hearing; Extension Request,” submitted by Zhongya on July 11, 2013.

Scope of the Order

The merchandise covered by the Order ¹³ is aluminum extrusions which are shapes and forms, produced by an extrusion process, made from aluminum alloys having metallic elements corresponding to the alloy series designations published by The Aluminum Association commencing with the numbers 1, 3, and 6 (or proprietary equivalents or other certifying body equivalents).¹⁴

¹³ See Aluminum Extrusions from the People's Republic of China: Antidumping Duty Order, 76 FR 30650 (May 26, 2011) (“Order”).

¹⁴ See “Issues and Decision Memorandum for the Final Results of Antidumping Duty Administrative Review: Aluminum Extrusions from the People's Republic of China,” from Melissa G. Skinner, Director, Office III to Christian Marsh, Deputy Assistant Secretary for Antidumping and Countervailing Duty Operations, dated concurrently with this notice (“Issues and Decision Memorandum”) for a complete description of the scope of the Order.

Imports of the subject merchandise are provided for under the following categories of the Harmonized Tariff Schedule of the United States (“HTSUS”): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

Analysis of Comments Received

All issues raised in the case and rebuttal briefs filed by parties in this review are addressed in the Issues and Decision Memorandum, which is dated concurrently with, and hereby adopted by, this notice.¹⁵ A list of the issues that parties raised and to which we responded in the Issues and Decision Memorandum follows as an appendix to this notice. The Issues and Decision Memorandum is a public document and is on file electronically via Enforcement and Compliance's Antidumping and Countervailing Duty Centralized Electronic Service System (“IA ACCESS”). IA ACCESS is available to registered users at http://iaaccess.trade.gov, and it is available to all parties in the Central Records Unit, room 7046 of the main Department of Commerce building. In addition, a complete version of the Issues and Decision Memorandum can be accessed directly on the internet at http://www.trade.gov/enforcement/. The signed Issues and Decision Memorandum and the electronic version of the Issues and Decision Memorandum are identical in content.

¹⁵ See Issues and Decision Memorandum.

Changes Since the Preliminary Results

Based on an analysis of the comments received from interested parties and a review of the record, the Department has made the following changes for these final results of review:

• We are correcting the weighted-average dumping margin for the PRC-wide entity. The Preliminary Results misstated this rate as 32.79 percent. The correct weighted-average dumping margin applicable to the PRC-wide entity is 33.28 percent, and was noted in the decision memorandum for the Preliminary Results.¹⁶

¹⁶ See “Decision Memorandum for Preliminary Results of Antidumping Duty Administrative Review: Aluminum Extrusions from the People's Republic of China, 2010/12,” dated June 3, 2013, (“PDM”) at page 15.

• We excluded from the margin calculation a small portion of sales which Kromet initially reported as its own, but which were actually sold by its PRC supplier.¹⁷

¹⁷ See Comment 2 of the accompanying Issues and Decision Memorandum.

• We included an additional portion of sales that, based on the commercial invoicing date, occurred within the POR.¹⁸

¹⁸ See “First Administrative Review of the Antidumping Duty Order on Aluminum Extrusions from the People's Republic of China: Analysis of the Final Results Margin Calculation for Kromet International” dated concurrently with this notice (“Final Analysis Memorandum”).

• We changed the export subsidy adjustment applied to Kromet's weighted-average dumping margin to account for the final subsidy rates determined in the companion countervailing duty investigation.¹⁹

¹⁹ Id. and Aluminum Extrusions From the People's Republic of China: Notice of Court Decision Not in Harmony With Final Affirmative Countervailing Duty Determination and Notice of Amended Final Affirmative Countervailing Duty Determination, 77 FR 74466 (December 14, 2012)(“CVD Amended Final”).

• We determined that five additional separate rate applicants have demonstrated eligibility for a separate rate in this administrative review.²⁰

²⁰ See Comment 8 of the accompanying Issues and Decision Memorandum.

• We made an adjustment under section 777A(f) of the Tariff Act of 1930, as amended (“the Act”) to the antidumping duty rate assigned to separate rate respondents in the final results.²¹

²¹ See Comment 10 of the accompanying Issues and Decision Memorandum.

Companies Eligible for a Separate Rate

In our Preliminary Results, we determined that four companies are eligible for a separate rate: GMID; Shenzhen Jiuyuan Co., Ltd. (a.k.a. Jiuyuan Co., Ltd. or Shenzhen Jiuyuan Import and Export Co., Ltd.) (“Jiuyuan”); Sincere Profit Limited (“Sincere Profit”); and Skyline.²² We have received no information since the issuance of the Preliminary Results that provides a basis for reconsideration of this determination. Therefore, the Department continues to find that these four companies are eligible for a separate rate.

²² See Preliminary Results at 34986.

Subsequent to the Preliminary Results, we received information that provides a basis for finding five additional companies eligible for a separate rate. These companies are Changzhou Tenglong Auto Parts Co., Ltd.; Dynamic Technologies China Ltd.; Xin Wei Aluminum Company Limited; Zhejiang Xinlong Industry Co., Ltd.; and ZGM.²³

²³ See Comment 8 of the accompanying Issues and Decision Memorandum.

Rate for Non-Examined Companies Which Are Eligible for a Separate Rate

The Department has assigned to non-examined, separate rate companies the weighted-average dumping margin assigned to non-examined, separate rate companies in the final determination of the antidumping investigation. Neither the Act nor the Department's regulations address the establishment of the rate applied to individual companies not selected for examination where the Department limited its examination in an administrative review pursuant to section 777A(c)(2) of the Act. The Department's practice in cases involving limited selection based on exporters accounting for the largest volumes of trade has been to look to section 735(c)(5) of the Act for guidance, which provides instructions for calculating the all-others rate in an investigation. Section 735(c)(5)(A) of the Act instructs the Department to avoid calculating an all-others rate using any rates that are zero, de minimis, or based entirely on facts available in investigations. Section 735(c)(5)(B) of the Act provides that, where all rates are zero, de minimis, or based entirely on facts available, the Department may use “any reasonable method” for assigning a rate to non-examined respondents.

We determine that the application of the rate from the investigation to the non-examined separate rate respondents is consistent with precedent and the most appropriate method to determine the separate rate in the instant review. Pursuant to this method, we are assigning the rate of 32.79 percent, the most recent rate (from the less than fair value investigation) calculated for the non-examined separate rate respondents, to the non-examined separate rate respondents in the instant review.

Adjustment Under Section 777A(f) of the Act

Pursuant to section 777A(f) of the Act, the Department has made an adjustment for countervailable domestic subsidies which have been found to have impacted the U.S. prices. For the non-examined companies which are eligible for a separate rate, as noted above, their weighted-average dumping margin is based on the weighted-average dumping margin for non-examined, separate rate companies in the antidumping investigation. This rate was based on the average petition rates, which were based on prices for sales of subject merchandise to the United States. In the companion countervailing duty investigation, the Department did not individually examine the PRC exporter(s) underlying the prices and, therefore, they would be part of the all-other exporters in the amended final determination for the CVD investigation. Accordingly, the adjustment to account for domestic subsidies is based on the countervailing duties found for all-other exporters. The amount of these countervailing duties which are passed through to the U.S. prices is found to be the rate determined for Kromet in these final results, which is based on data from Bloomberg.²⁴ For Kromet, no such adjustment is necessary because Kromet's weighted-average dumping margin is zero.

²⁴ See PDM at Attachment 2.

Pursuant to section 772(c)(1)(C) of the Act, the Department has also made an adjustment for countervailable export subsidies. For Kromet, an adjustment has been made to its U.S. price as reported in its U.S. sales database.²⁵ For the companies eligible for a separate rate, an adjustment has been made based on the countervailable export subsidy found for all-other exporters in the amended final determination for the countervailing duty investigation.²⁶

²⁵ See Final Analysis Memorandum.

²⁶ See CVD Amended Final.

PRC-Wide Entity

In the Preliminary Results, the Department determined that the mandatory respondent Zhongya/Guang Ya Group/Xinya was not eligible for a separate rate, and, accordingly, was found to be part of the PRC-wide entity. The Department has received no information since the issuance of the Preliminary Results that provides a basis for reconsideration of this determination. Therefore, the Department continues to find that Zhongya/Guang Ya Group/Xinya is not eligible for a separate rate and is part of the PRC-wide entity.

In the Preliminary Results, the Department also found the following 25 companies to be part of the PRC-wide entity: Foshan City Nanhai Hongjia Aluminum Alloy Co., Ltd.; Foshan Shunde Aoneng Electrical Appliances Co., Ltd.; Guangdong Nanhai Foodstuffs Imp. & Exp. Co., Ltd.; Isource Asia Limited and affiliates; Kunshan Giant Light Metal Technology Co., Ltd.; Midea Air-Conditioning Equipment Co., Ltd.; Nidec Sankyo Singapore Pte. Ltd.; Nidec Sankyo (Zhejang) Corporation; Ningbo Coaster International Co., Ltd.; Shanghai Dongsheng Metal; Shanghai Shen Hang Imp. & Exp. Co., Ltd.; Sihui Shi Guo Yao Aluminum Co., Ltd.; Suzhou JRP Import & Export Co., Ltd.; Tianjin Gangly Nonferrous Metal Materials Co., Ltd.; Activa International Incorporated; Changzhou Changfa Power Machinery Co., Ltd.; Foshan Yong Li Jian Alu. Ltd. Guangzhou Mingcan Die-Casting Hardware Products Co., Ltd.; Jiaxing Taixin Metal Products Co., Ltd.; Metaltek Metal Industry Ltd.; Zhejuang Zhengte Group Co., Ltd.; Clear Sky Inc.; Zhuhai Runxingtai Electrical Equipment Co., Ltd.; Shandong Huasheng Pesticide Machinery Co.; and North China Aluminum Co., Ltd. The Department has received no information since the issuance of the Preliminary Results that provides a basis for reconsideration of this determination. Therefore, the Department continues to find that these 25 companies are not eligible for a separate rate and are part of the PRC-wide entity.

In the Preliminary Results, the Department identified 29 companies ²⁷ for which it was seeking additional information regarding each company's eligibility for a separate rate. As noted above, four of these companies provided additional information to substantiate their eligibility for a separate rate. One company, Allied Maker Limited, had submitted a Q&V response as well as a SRA but was never under review; therefore, the Department is not considering this company as part of these final results. For the remaining 24 companies, each did not provide the requested information to substantiate a suspended AD/CVD entry for eligibility for a separate rate, and, therefore, for these final results, are found to be part of the PRC-wide entity. These companies are Acro Import and Export Corp.; Changzhou Changzheng Evaporator Co., Ltd.; Dongguan Aoda Aluminum Co., Ltd.; Dongguan Golden Tiger Hardware Industrial Co., Ltd.; Global PMX (Dongguan) Co., Ltd.; Gree Electric Appliances, Inc. of Zhuhai; Guangdong Whirlpool Electrical Appliances Co., Ltd.; Hangzhou Xingyi Metal Products Co., Ltd.; Hanyung Alcobis Co., Ltd.; Henan New Kelong Electrical Appliances Co., Ltd.; IDEX Dinglee Technology (Tianjin) Co., Ltd.; Jiangsu Changfa Refrigeration Co., Ltd.; Jiaxing Jackson Travel Products Co., Ltd.; Justhere Co., Ltd.; Metaltek Group Co., Ltd.; Midea International Trading Co., Ltd.; Shanghai Tongtai Precise Aluminum Alloy Manufacturing Co., Ltd; Shenzhen Hudson Technology Development Co., Ltd.; Suzhou New Hongji Precision Part Co., Ltd.; Taizhou Lifeng Manufacturing Corp.; Tianjin Jinmao Import & Export Corp., Ltd.; Union Industry (Asia) Co., Limited; Guang Dong Xin Wei Aluminum Products Co., Ltd.; and Xin Wei Aluminum Co., Ltd.

²⁷ In the Preliminary Results, the Department considered Xin Wei Aluminum Company Limited, Guang Dong Xin Wei Aluminum Products Co., Ltd., and Xin Wei Aluminum Co., Ltd. as one company where as they are three separate entities. For these final results, these three separate entities have been considered individually. As a result, the 27 companies referenced in footnote 8 of the Preliminary Results encompass 29 companies for which a review was initiated.

One other company for which a review was initiated has submitted neither a Q&V response nor a separate rate application and is considered part of the PRC-wide entity. This company is Zhaoquing Asia Aluminum Factory.

Rate for the PRC-Wide Entity

For the PRC-wide entity, the Department in the Preliminary Results assigned the rate of 33.28 ²⁸ percent, the only rate ever determined for the PRC-wide entity in this proceeding. Because this rate is the same as the rate for the PRC-wide entity from previously completed segments in this proceeding and nothing on the record of the instant review calls into question the reliability of this rate, we find it appropriate to continue to apply the rate of 33.28 percent to the PRC-wide entity.

²⁸ The PRC-wide Entity cash deposit rate was misstated in the Preliminary Results as 32.79 percent. The correct cash deposit rate applicable to the PRC-wide Entity for these final results is 33.28 percent. See the PDM at page 15.

Final Results of Review

As a result of this review, we determine that the following weighted-average dumping margins exist for the period November 12, 2010, through April 30, 2012:

Exporter | Weighted- average dumping margin (percent)
Kromet International, Inc. | 0.00
Sincere Profit Limited | 32.79
Skyline Exhibit Systems (Shanghai) Co., Ltd | 32.79
Gold Mountain International Development Limited | 32.79
Shenzhen Jiuyuan Co., Ltd | 32.79
Dynamic Technologies China Ltd | 32.79
Zhejiang Xinlong Industry Co., Ltd | 32.79
Changzhou Tenglong Auto Parts Co., Ltd | 32.79
Xin Wei Aluminum Company Limited | 32.79
Zhongshan Gold Mountain Aluminum Factory Ltd | 32.79
PRC-wide Entity | 33.28

Disclosure

We will disclose the calculations performed within five days of the date of publication of this notice to parties in this proceeding in accordance with 19 CFR 351.224(b).

Assessment Rates

The Department shall determine, and CBP shall assess, antidumping duties on all appropriate entries covered by this review pursuant to section 751(a)(2)(C) of the Act and 19 CFR 351.212(b).²⁹ The Department intends to issue assessment instructions to CBP 15 days after the date of publication of these final results of review.

²⁹ See Antidumping Proceeding: Calculation of the Weighted-Average Dumping Margin and Assessment Rate in Certain Antidumping Duty Proceedings; Final Modification, 77 FR 8103 (February 14, 2012).

For Kromet, we will instruct CBP to liquidate all appropriate entries without regard to antidumping duties because Kromet's weighted-average dumping margin is zero percent. For the nine non-examined, separate rate companies, we will instruct CBP to liquidate all appropriate entries at a rate based on 32.79 percent and adjusted for both export and domestic subsidies as described above. For the PRC-wide entity, we will instruct CBP to liquidate all appropriate entries at a rate equal to 33.28 percent.

The Department recently announced a refinement to its assessment practice in NME cases. Pursuant to this refinement in practice, for entries that were not reported in the U.S. sales databases submitted by companies individually examined during this review, the Department will instruct CBP to liquidate such entries at the NME-wide rate. In addition, if the Department determines that an exporter under review had no shipments of subject merchandise, any suspended entries that entered under that exporter's case number (i.e., at that exporter's rate) will be liquidated at the NME-wide rate. For a full discussion of this practice, see NME Antidumping Proceedings, supra.

Cash Deposit Requirements

The following cash deposit requirements will be effective for all shipments of the subject merchandise entered, or withdrawn from warehouse, for consumption on or after the publication date of the final results of this administrative review, as provided by section 751(a)(2)(C) of the Act: (1) For the exporters listed above, the cash deposit rate will be equal to the weighted-average dumping margin identified in “Final Results of the Review,” and adjusted for applicable export and domestic subsidies; (2) for previously investigated or reviewed PRC and non-PRC exporters that are not under review in this segment of the proceeding but that received a separate rate in a previous segment, the cash deposit rate will continue to be the exporter-specific rate published for the most recently completed segment of this proceeding; (3) for all PRC exporters of subject merchandise which have not been found to be entitled to a separate rate, the cash deposit rate will continue to be the PRC-wide rate of 33.28 percent; ³⁰ and (4) for all non-PRC exporters of subject merchandise which have not received their own rate, the cash deposit rate will be the rate applicable to the PRC exporter(s) that supplied that non-PRC exporter. The cash deposit requirements, when imposed, shall remain in effect until further notice.

³⁰ This rate was established in the final results of the original less than fair value investigation. See Aluminum Extrusions From the People's Republic of China: Final Determination of Sales at Less Than Fair Value,

76 FR 18524 (April 4, 2011). This includes Zhongya/Guang Ya Group/Xinya.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

In accordance with 19 CFR 351.305(a)(3), this notice serves as a reminder to parties subject to administrative protective order (“APO”) of their responsibility concerning the disposition of proprietary information disclosed under the APO. Timely written notification of the return or destruction of APO materials, or conversion to judicial protective order, is hereby requested. Failure to comply with the regulations and terms of an APO is a sanctionable violation.

These final results of review and notice are published in accordance with sections 751(a)(1) and 777(i)(1) of the Act.

Dated: December 26, 2013.
Christian Marsh,
Deputy Assistant Secretary For Antidumping and Countervailing Duty Operations.

Appendix I

Issues for the Final Results

Issues Relating to Kromet

Comment 1: Whether To Continue To Use the Philippines as the Surrogate Country

Comment 2: Whether to Continue To Treat Kromet as the Exporter

Comment 3: Whether To Adjust Kromet's Sales Prices To Account for Taxes Paid

Issues Relating to Zhongya

Comment 4: Whether to Collapse Zhongya, the Guang Ya Group, and Xinya

Comment 5: Whether the Guang Ya Group and Xinya Should Be Treated as Part of the PRC-Wide Entity

Comment 6: Whether AFA Should Be Applied to Zhongya

Comment 7: Whether the Department Should Request Certain Additional Information From Zhongya

Issues Relating to Separate Rate Applicants

Comment 8: Whether Absence of a Suspended Entry Is a Basis for Denying a Separate Rate

Comment 9: Calculation of the AD Margin Assigned to the Separate Rate Respondents

Comment 10: How To Adjust the Separate Rate for Double Counting Under Section 777A(f) of the Act

Comment 11: Whether the Margin Assigned to the Separate Rate Respondents in the Preliminary Results was an AFA Rate

Comment 12: Whether GMID and Zhongshan Gold Mountain Aluminium Factory Ltd. Are Both Eligible for Separate Rate Status

Comment 13: Whether Suppliers for Electrolux and Newell Should Be Subsumed Within Their Exporter's Rate

Comment 14: Whether AD Duties Should Only Be Assessed on IDEX After the Date of the Department's Initiation of a Formal Scope Inquiry

[FR Doc. 2013-31408 Filed 12-31-13; 8:45 am]

BILLING CODE 3510-DS-P